DEPARTMENT OF TRANSPORTATION

Federal Aviation Administration

14 CFR Part 71

[Docket No. FAA-2010-0015; Airspace Docket No. 09-ASW-18]

RIN 2120-AA66

Amendment of Low Altitude Area Navigation Route T-254; Houston, TX

AGENCY: Federal Aviation Administration (FAA), DOT.

ACTION: Final rule.

SUMMARY: This action amends low altitude Area Navigation (RNAV) route T-254 in the Houston, TX, terminal area by eliminating the segment between the Centex, TX, VHF Omnidirectional Range/Tactical Air Navigation (VORTAC) and the College Station, TX, VORTAC. The FAA is taking this action to eliminate a portion of T-254 that is no longer needed; thus, enhancing safety and the efficient use of the navigable airspace in the Houston, TX, terminal area.

DATES: Effective Dates: 0901 UTC, June 3, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On Tuesday, February 9, 2010, the FAA published in the Federal Register a notice of proposed rulemaking to amend low altitude Area Navigation (RNAV) route T-254 in the Houston, TX, terminal area (75 FR 6319). Interested parties were invited to participate in this rulemaking effort by submitting written comments on the proposal to the FAA. No comments were received.

The Rule

This action amends Title 14 Code of Federal Regulations (14 CFR) part 71 by amending area navigation route T-254 in the Houston, TX, terminal area. Specifically, the FAA is eliminating the route segment of T-254 between the Centex, TX, VORTAC and College Station, TX, VORTAC. This action eliminates unnecessary duplication with an existing route segment of Federal Airway V-565 to enhance safety and facilitate the efficient use of the navigable airspace for en route instrument flight rules operations transitioning around the Houston Class B terminal airspace area.

Low altitude RNAV routes are published in paragraph 6011 of FAA Order 7400.9T, Airspace Designations and Reporting Points, signed August 27, 2009, and effective September 15, 2009, which is incorporated by reference in 14 CFR 71.1. The low altitude RNAV route listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends a low altitude Area Navigation route (T-254) in the Houston, TX, terminal area.

Environmental Review

The FAA has determined that this action qualifies for categorical exclusion under the National Environmental Policy Act in accordance with FAA Order 1050.1E, “Environmental Impacts: Policies and Procedures,” paragraphs 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009, is amended as follows:

Paragraph 6011 Area Navigation Routes

* * * * *

T-254 College Station, TX to Lake Charles, LA [Amended]

College Station, TX (CLL) VORTAC

(Lat. 30°36′18″ N., long. 96°25′14″ W.)

EAKES, TX WP

(Lat. 30°33′18″ N., long. 95°18′29″ W.)

CREPO, TX WP

(Lat. 30°16′54″ N., long. 94°14′43″ W.)

Lake Charles, LA (LCH) VORTAC

(Lat. 30°08′29″ N., long. 93°06′20″ W.)

Issued in Washington, DC, on April 1, 2010.
Ellen Crum,
Acting Manager, Airspace and Rules Group.

[FR Doc. 2010-8015 Filed 4-8-10; 8:45 am]

BILLING CODE 4910-13-P